DEPARTMENT OF THE INTERIOR

Minerals Management Service

Agency Information Collection Activities: Submitted for Office of Management and Budget (OMB) Review; Comment Request

AGENCY: Minerals Management Service (MMS), Interior.

ACTION: Notice of revision of two currently approved information collections (OMB Control Numbers 1010-0018 and 1010-0039).

SUMMARY: To comply with the Paperwork Reduction Act of 1995 (PRA), we are submitting to OMB for review and approval two information collection requests (ICRs). We are also soliciting comments from the public on these ICRs., titled “Form MMS-126, Well Potential Test Report (WPT)”; and “Form MMS-127, Sensitive Reservoir Information Report (SRI).” The submissions to OMB request approval of revisions (to both forms) that clarify the submittal requirements and eliminate certain data elements. The current title (Request for Reservoir Maximum Efficient Rate) of Form MMS-127 is renamed.

DATES: Submit written comments by August 13, 2001.

ADDRESSES: You may submit comments directly to the Office of Information and Regulatory Affairs, OMB, Attention: Desk Officer for the Department of the Interior (1010-0018 or 1010-0039), 725 17th Street, NW., Washington, DC 20503. Mail or hand carry a copy of your comments to the Department of the Interior, Minerals Management Service, Attention: Rules Processing Team, Mail Stop 4024, 381 Elden Street; Herndon, Virginia 20170-4817. If you wish to e-mail comments, the e-mail address is: rules.comments@mms.gov. Reference “Information Collection Form MMS-126” or “Form MMS-127” as appropriate in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy at no cost of the revised forms MMS-126 and MMS-127.

SUPPLEMENTARY INFORMATION: Titles and OMB Control Numbers:

Form MMS-126, Well Potential Test Report (WPT), 1010-0039.

Form MMS-127, Sensitive Reservoir Information Report (SRI), 1010-0018.

Abstract: The Outer Continental Shelf (OCS) Lands Act (43 U.S.C. 1331 et seq.), as amended, requires the Secretary of the Interior (Secretary) to preserve, protect, and develop oil and gas or sulphur resources on the OCS; make such resources available to meet the Nation's energy needs as rapidly as possible; balance orderly energy resources development with protection of the human, marine, and coastal environments; ensure the public a fair and equitable return on the resources offshore; preserve and maintain free-enterprise competition; and ensure that the extent of oil and natural gas resources of the OCS is assessed at the earliest practicable time. Section 5(a) of the OCS Lands Act requires the Secretary to prescribe rules and regulations “to provide for the prevention of waste, and conservation of the natural resources of the Outer Continental Shelf, and the protection of correlative rights therein” and to include provisions “for the prompt and efficient exploration and development of a lease area.”

To carry out these responsibilities, MMS has issued regulations to ensure that operations in the OCS will meet statutory requirements; provide for safety and protect the environment; and result in diligent exploration, development, and production of OCS leases. Various sections of 30 CFR part 250, subpart K, require respondents to submit forms MMS-126 and MMS-127.

For several years, the MMS Gulf of Mexico Region (GOMR) has issued instructions to lessees and operators that when they submit these forms, they do not need to request a maximum production rate (MPR) or a maximum efficient rate (MER), nor complete data elements 110 through 114 on cumulative well production during approved testing periods. The GOMR does, however, retain the authority to set MPRs for individual well completions, and to set MERs for individual reservoirs, if necessary to ensure natural resources conservation and to maximize ultimate recovery.

The MMS Alaska and Pacific OCS Regions agree with the determination that MMS no longer needs to collect the information reported in data elements 110 through 114 on both forms. They will still require lessees and operators in those regions to complete data element 91 (Requested MPR) on form MMS-126 and data elements 119 and 120 (Present and Requested MER) on form MMS-127. The revised forms reflect these decisions. When we next revise the 30 CFR 250, subpart K, regulations, we anticipate proposing to officially incorporate these changes in regulation.

MMS District and Regional Supervisors use the information on form MMS-126 for various environmental, reservoir, reserves, and conservation analyses, including the determination of MPRs when necessary for certain oil and gas completions. The form contains information concerning the conditions and results of a well potential test. This requirement implements the conservation provisions of the OCS Lands Act and 30 CFR 250. The information obtained from the well potential test is essential to determine if an MPR is necessary for a well and to establish the appropriate rate. It is not possible to specify an MPR in the absence of information about the production rate capability (potential) of the well.

MMS District and Regional Supervisors use the information submitted on form MMS-127 to determine whether a rate-sensitive reservoir is being prudently developed. This represents an essential control mechanism that MMS uses to regulate production rates from each sensitive reservoir being actively produced. Occasionally, the information available on a reservoir early in its producing life may indicate it to be non-sensitive, while later and more complete information would establish the reservoir as being sensitive. Production from a well completed in the gas cap of a sensitive reservoir requires approval from the Regional Supervisor. The information submitted on form MMS-127 provides reservoir parameters that are revised at least annually or sooner if reservoir development results in a change in reservoir interpretation. The engineers and geologists use the information for rate control and reservoir studies.

Responses are mandatory. No questions of a “sensitive” nature are asked. MMS will protect proprietary information according to the Freedom of Information Act (5 U.S.C. 552) and its implementing regulations (43 CFR part 2), 30 CFR 250.196 (Data and information to be made available to the public), and 30 CFR part 252 (OCS Oil and Gas Information Program). Proprietary information concerning geological and geophysical data will be protected according to 43 U.S.C. 1352.

Frequency: The frequency is “on occasion,” but not less than annual.

Estimated Number and Description of Respondents: Approximately 130 Federal OCS oil and gas or sulphur lessees.

Estimated Annual Reporting and Recordkeeping “Hour” Burden: The average “hour” burden for both forms MMS-126 and MMS-127 is 1 hour.

Estimated Annual Reporting and Recordkeeping “Non-Hour Cost” Burden: We have identified no “non-hour cost” burden associated with either form MMS-126 or MMS-127.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 6, 2001, we published a Federal Register notice (66 FR 18294) announcing that we would submit these ICRs to OMB for approval. The notice provided the required 60-day comment period. In addition, § 250.199 provides the OMB control numbers for the information collection requirements imposed by the 30 CFR part 250 regulations and forms; specifies that the public may comment at anytime on these collections of information; and provides the address to which they should send comments. This information is also contained in the PRA statement on each of the forms. We have received no comments in response to these efforts.

If you wish to comment in response to this notice, send your comments directly to the offices listed under the ADDRESSES section of this notice. The OMB has up to 60 days to approve or disapprove the information collection but may respond after 30 days. Therefore, to ensure maximum consideration, OMB should receive public comments by August 13, 2001. The PRA provides that an agency may not conduct or sponsor, and a person is not required to respond to, a collection of information unless it displays a currently valid OMB control number.

MMS Information Collection Clearance Officer: Jo Ann Lauterbach, (202) 208-7744.

Dated: June 5, 2001.
E.P. Danenberger,
Chief, Engineering and Operations Division.

[FR Doc. 01-17616 Filed 7-12-01; 8:45 am]

BILLING CODE 4310-MR-P